NATIONAL SCIENCE FOUNDATION

Advisory Committee for Education and Human Resources; Notice of Meeting

In accordance with Federal Advisory Committee Act (Pub. L. 92-463, as amended), the National Science Foundation announces the following meeting

Name: Advisory Committee for Education and Human Resources (#1119).

Date/Time: May 11, 2005; 8:30 a.m. to 5 p.m. May 12, 2005; 8:30 a.m. to 12 p.m.

Place: Holiday Inn Arlington, 4610 North Fairfax Drive, Arlington and Clarendon Ballrooms. Arlington VA 22203.

Type of Meeting: Open.

Contact Person: James Colby, National Science Foundation, 4201 Wilson Boulevard, Arlington, VA 22230, (703) 292-5331. If you are attending the meeting and need access to the NSF please contact the individual listed above so your name may be added to the building access list.

Purpose of Meeting: To provide advice with respect to the Foundation's education and human resources programming.

Agenda:

May 11, 2005
Time | Activity
8 a.m | Assemble in Conference Room.
8:30 a.m | Introductions, Opening Presentation.
9 a.m | Discussion with Acting Assistant Director, EHR.
10 a.m | Break.
10:15 a.m | Programmatic Planning • Focus on Undergraduate. • Focus on K-12. • Focus on Research.
Noon | Lunch (TBD).
1:30 p.m | Updated on Division/Office Activities.
2:30 p.m | Break.
2:45 p.m | COV Reports and Discussion.
4 p.m | Focus on Program/Project Evaluation.
5 p.m | Recess.

May 12, 2005
Time | Activity
8 a.m | Assemble in Conference Room.
8:30 a.m | Discussion w/Arden Bement.
9:30 a.m | Review of Day 1, Next Steps.
10:15 a.m | Break.
10:30 a.m | Next Steps, Continued.
11:30 a.m | Closing Remarks.
Noon | Adjourn.

Dated: April 27, 2005.
Susanne Bolton,
Committee Management Officer.

[FR Doc. 05-8688 Filed 4-29-05; 8:45 am]

BILLING CODE 7555-01-M